DEPARTMENT OF TRANSPORTATION

Federal Aviation Administration

Agency Information Collection Activities: Requests for Comments; Clearance of Renewed Approval of Information Collection: Certification and Operation FAR 125

AGENCY: Federal Aviation Administration, DOT.

ACTION: Notice and request for comments.

SUMMARY: In accordance with the Paperwork Reduction Act of 1995, FAA invites public comments about our intention to request the Office of Management and Budget (OMB) approval to renew a previously approved information collection. 14 CFR 125 prescribes requirements for issuing operating certificates and for appropriate operating rules. In addition to the statutory basis, the collection of this information is necessary to issue, reissue, or amend applicant's operating certificates and operations specifications.

DATES: Written comments should be submitted by May 15, 2017.

ADDRESSES: Send comments to the FAA at the following address: Ronda Thompson, Room 441, Federal Aviation Administration, ASP-110, 950 L'Enfant Plaza SW., Washington, DC 20024.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson by email at: Ronda.Thompson@faa.gov.

SUPPLEMENTARY INFORMATION: OMB Control Number: 2120-0085.

Title: Certification and Operation FAR 125.

Form Numbers: None.

Type of Review: Renewal of an information collection.

Background: 14 CFR part 125 prescribes requirements for leased aircraft, aviation service firms, and air travel. A letter of application and related documents which set forth an applicant's ability to conduct operations in compliance with the provisions of 14 CFR part 125 are submitted to the appropriate Flight Standards District Office (FSDO). Inspectors in FAA FSDO's review the submitted information to determine certificate eligibility.

Respondents: Approximately 163 certificated operators.

Frequency: Information is collected on occasion.

Estimated Average Burden per Response: 1.33 hours.

Estimated Total Annual Burden: 61,388 hours.

Issued in Washington, DC, on February 1, 2017.
Ronda L. Thompson,
FAA Information Collection Clearance Officer, Performance, Policy, and Records Management Branch, ASP-110.

[FR Doc. 2017-05012 Filed 3-13-17; 8:45 am]

BILLING CODE 4910-13-P